DEPARTMENT OF DEFENSE

Defense Acquisition Regulations System

48 CFR Parts 216 and 237

Defense Federal Acquisition Regulation Supplement; Technical Amendments

AGENCY: Defense Acquisition Regulations System, Department of Defense (DoD).

ACTION: Final rule.

SUMMARY: DoD is making technical amendments to the Defense Federal Acquisition Regulation Supplement (DFARS) to set forth references to supplementary information and procedures pertaining to specific categories of DoD acquisitions.

DATES: Effective Date: December 16, 2010.

FOR FURTHER INFORMATION CONTACT: Ms. Ynette R. Shelkin, Defense Acquisition Regulations System, OUSD(AT&L)DPAP/DARS, Room 3B855, 3060 Defense Pentagon, Washington, DC 20301-3060. Telephone 703-602-8384; facsimile 703-602-0350.

SUPPLEMENTARY INFORMATION: This final rule revises subpart 216.4 to add references at 216.401 to additional information and mandatory procedures to follow when planning to award an award fee contract. It also provides the location of procedures to follow for collection of relevant data on award and incentive fees paid to contractors and to evaluate such data on a regular basis, in accordance with section 814 of the National Defense Authorization Act for Fiscal Year 2007 (Pub. L. 109-364). Additionally, this technical amendment revises subpart 237.1 to add language at 237.102-74 that provides the location of a taxonomy for acquisition of services to facilitate strategic sourcing within DoD.

List of Subjects in 48 CFR Parts 216 and 237

Government procurement.

Ynette R. Shelkin,
Editor, Defense Acquisition Regulations System.

Therefore, 48 CFR parts 216 and 237 are amended as follows:

1. The authority citation for 48 CFR parts 216 and 237 continues to read as follows:

Authority: 41 U.S.C. 421 and 48 CFR chapter 1.

PART 216—TYPES OF CONTRACTS

2. Add sections 216.401 and 216.401-70 to subpart 216.4 to read as follows:

216.401 General.

(c) See PGI 216.401(c) for information on the Defense Acquisition University Award and Incentive Fees Community of Practice.

(e) Follow the procedures at PGI 216.401(e) when planning to award an award-fee contract.

216.401-70 Data collection.

Section 814 of the National Defense Authorization Act for Fiscal Year 2007 (Pub. L. 109-364) requires DoD to collect relevant data on award and incentive fees paid to contractors and have mechanisms in place to evaluate such data on a regular basis. In order to comply with this statutory requirement, follow the procedures at PGI 216.401-70.

PART 237—SERVICE CONTRACTING

3. Add section 237.102-74 to read as follows:

237.102-74 Taxonomy for the acquisition of services.

See PGI 237.102-74 for OUSD(AT&L) DPAP memorandum, “Taxonomy for the Acquisition of Services,” dated November 23, 2010.

[FR Doc. 2010-31620 Filed 12-15-10; 8:45 am]

BILLING CODE 5001-08-P